DEPARTMENT OF TRANSPORTATION

Federal Aviation Administration

14 CFR Part 39

[Docket No. FAA-2010-1036; Directorate Identifier 2009-NM-247-AD; Amendment 39-16480; AD 2010-22-01]

RIN 2120-AA64

Airworthiness Directives; The Boeing Company Model 767-200, -300, and -300F Series Airplanes

AGENCY: Federal Aviation Administration (FAA), DOT.

ACTION: Final rule; request for comments.

SUMMARY: We are superseding an existing airworthiness directive (AD) for the products listed above. That AD currently requires repetitive inspections for fatigue cracking and corrosion of the upper link fuse pin of the nacelle struts, and related investigative and corrective actions if necessary. The existing AD also provides terminating action for the repetitive inspections. This AD revises certain criteria for the terminating action. This AD was prompted by two reports of cracked upper link fuse pins. We are issuing this AD to prevent fatigue cracking or corrosion of the upper link fuse pin, which could result in failure of the fuse pin and consequent reduced structural integrity of the nacelle strut and possible separation of the strut and engine from the airplane during flight.

DATES: This AD is effective November 4, 2010.

The Director of the Federal Register approved the incorporation by reference of a certain publication listed in the AD as of November 4, 2010.

The Director of the Federal Register approved the incorporation by reference of a certain other publication listed in this AD as of November 5, 2009 (74 FR 50692, October 1, 2009).

We must receive comments on this AD by December 6, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Discussion

On September 18, 2009, we issued AD 2009-20-09, Amendment 39-16032 (74 FR 50692, October 1, 2009), for certain Model 767-200, -300, and -300F series airplanes. That AD requires repetitive inspections for fatigue cracking and corrosion of the upper link fuse pin of the nacelle struts, and related investigative and corrective actions if necessary. That AD also provides terminating action for the repetitive inspections. That AD resulted from two reports of cracked upper link fuse pins. We issued that AD to prevent fatigue cracking or corrosion of the upper link fuse pin, which could result in failure of the fuse pin and consequent reduced structural integrity of the nacelle strut and possible separation of the strut and engine from the airplane during flight.

Actions Since Existing AD Was Issued

We have learned that paragraph (h) of AD 2009-20-09 incorrectly identifies the pin replacement as acceptable for compliance with the optional strut modification specified in paragraph (g) of that AD. Rather, replacing the pin terminates only the repetitive inspections of the pins as required by paragraph (g) of this AD; replacing the pin does not terminate the requirement for the strut modification. We have removed credit for replacement of the fuse pins with new fuse pins from paragraph (h) of the existing AD (specified as paragraph (i) in this AD) because it is not a terminating action. We have added new paragraph (j) in this AD to specify that replacement of the fuse pins terminates the repetitive inspection requirements of paragraph (g) of this AD, and the strut modification is still required.

We have also revised paragraph (b) of this AD to clarify that certain requirements of this AD terminate certain requirements of AD 2000-19-09, Amendment 39-11910 (65 FR 58641, October 2, 2000), and AD 2004-16-12, Amendment 39-13768 (69 FR 51002, August 17, 2004).

Explanation of Additional Paragraph in the AD

We have added a new paragraph (d) to this AD to provide the Air Transport Association (ATA) of America subject code 54: Nacelles/Pylons. This code is added to make this AD parallel with other new AD actions. We have reidentified subsequent paragraphs accordingly.

FAA's Determination

We are issuing this AD because we evaluated all the relevant information and determined the unsafe condition described previously is likely to exist or develop in other products of these same type designs.

AD Requirements

This AD requires repetitive inspections for fatigue cracking and corrosion of the upper link fuse pin of the nacelle struts, and related investigative and corrective actions if necessary. This AD also provides terminating action for the repetitive inspections.

FAA's Justification and Determination of the Effective Date

An unsafe condition exists that requires the immediate adoption of this AD. The FAA has found that the risk to the flying public justifies waiving notice and comment prior to adoption of this rule because this AD shortens the time for the repetitive intervals. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include “Docket No. FAA-2010-1036; Directorate Identifier 2009-NM-247-AD;” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 354 airplanes of U.S. registry. This new AD adds no new costs to affected operators. The current costs for this AD are repeated for the convenience of affected operators, as follows:

Estimated Costs
Action | Labor cost | Parts cost | Cost per product | Cost on U.S. operators
Inspection of fuse pins (requirement of AD 2009-20-09) | 4 work-hours × $85 per hour = $340 per inspection cycle | $0 | $340 per inspection cycle | $120,360 per inspection cycle.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

The FAA amends § 39.13 by removing airworthiness directive (AD) 2009-20-09, Amendment 39-16032 (74 FR 50692, October 1, 2009), and adding the following new AD:

2010-22-01 The Boeing Company: Amendment 39-16480; Docket No. FAA-2010-1036; Directorate Identifier 2009-NM-247-AD.

Effective Date

(a) This AD is effective November 4, 2010.

Affected ADs

(b) This AD supersedes AD 2009-20-09, Amendment 39-16032. Certain requirements of this AD terminate certain requirements of AD 2000-19-09, Amendment 39-11910, and AD 2004-16-12, Amendment 39-13768.

Applicability

(c) This AD applies to The Boeing Company Model 767-200, -300, and -300F series airplanes, certificated in any category, as identified in Boeing Alert Service Bulletin 767-54A0074, Revision 1, dated April 24, 2008.

Subject

(d) Joint Aircraft System Component (JASC)/Air Transport Association (ATA) of America Code 54: Nacelles/Pylons.

Unsafe Condition

(e) This AD was prompted by two reports of cracked upper link fuse pins. We are issuing this AD to prevent fatigue cracking or corrosion of the upper link fuse pin, which could result in failure of the fuse pin and consequent reduced structural integrity of the nacelle strut and possible separation of the strut and engine from the airplane during flight.

Compliance

(f) Comply with this AD within the compliance times specified, unless already done.

Restatement of Requirements of AD 2009-20-09, With Revised Credit Provisions in Paragraph (I) of This AD

Initial and Repetitive Inspections/Investigative and Corrective Actions

(g) Inspect the upper link fuse pin of the nacelle struts for fatigue cracking and corrosion at the applicable time specified in Table 1 of this AD. Do the applicable inspection by doing all the applicable actions specified in the Accomplishment Instructions of Boeing Alert Service Bulletin 767-54A0074, Revision 1, dated April 24, 2008; and do all applicable related investigative and corrective actions before further flight. Repeat the applicable inspection at intervals not to exceed 3,000 flight cycles or 24 months, whichever is first, until the requirements of paragraph (h) of this AD have been done.

Table 1—Compliance Times
Engine type | At the later of:: Initial inspection threshold | At the later of:: Grace period
JT9D | 14,000 total flight cycles | Within 3,000 flight cycles or 18 months after November 5, 2009 (the effective date of AD 2009-20-09), whichever is first.
CF6-80A | 24,000 total flight cycles | Within 3,000 flight cycles or 18 months after November 5, 2009, whichever is first.
PW4000 | 8,000 total flight cycles | Within 3,000 flight cycles or 18 months after November 5, 2009, whichever is first.
CF6-80C2 | 10,000 total flight cycles | Within 3,000 flight cycles or 18 months after November 5, 2009, whichever is first.
RB211 | 24,000 total flight cycles | Within 3,000 flight cycles or 18 months after November 5, 2009, whichever is first.

Note 1: The upper link inspections can be done with the pylon and/or engine in any position.

Note 2: In paragraph 3.B, Steps 4.b.(1)(a) and 4.b.(2)(b)(2){a} of the Accomplishment Instructions of Boeing Alert Service Bulletin 767-54A0074, Revision 1, dated April 24, 2008, the procedures specify to apply two layers of Boeing Material Specification (BMS) 10-11 primer to the inside surface of the fuse pin if no crack indication is found. However, two layers of primer are only necessary to touch up bare areas on the fuse pin if no crack indication is found.

Terminating Action in AD 2000-19-09, Amendment 39-11910, and AD 2004-16-12, Amendment 39-13768

(h) Accomplishment of the modification specified in paragraph (h)(1) or (h)(2) of this AD, as applicable, terminates the inspections required by paragraph (g) of this AD.

(1) For Model 767 series airplanes powered by Rolls-Royce RB211 series engines, as identified in AD 2000-19-09: Modification of the nacelle strut and wing structure, as required by paragraphs (a) and (b) of AD 2000-19-09.

(2) For Model 767-200, -300, and -300F series airplanes powered by Pratt & Whitney and General Electric engines, as identified in AD 2004-16-12: Modification of the nacelle strut and wing structure, as required by paragraphs (a), (b), (d), and (e) of AD 2004-16-12.

Credit for Inspection Done Using Previous Service Information

(i) Inspection of the fuse pins before November 5, 2009, in accordance with Boeing Service Bulletin 767-54-0074, dated March 27, 1997, is acceptable for compliance with the inspections required by paragraph (g) of this AD, except that operator's equivalent procedures are not allowed.

New Requirements of This AD

Optional Terminating Action for Inspections

(j) Replacement of the fuse pins with new fuse pins (not serviceable fuse pins), in accordance with Boeing Service Bulletin 767-54-0074, dated March 27, 1997; or Boeing Alert Service Bulletin 767-54A0074, Revision 1, dated April 24, 2008; terminates the repetitive inspections of the fuse pins required by paragraph (g) of this AD.

Alternative Methods of Compliance (AMOCs)

(k)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your Principal Maintenance Inspector or Principal Avionics Inspector, as appropriate, or lacking a principal inspector, your local Flight Standards District Office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD. AMOCs that specified using new pins (not serviceable pins) approved previously in accordance with AD 2009-20-09, Amendment 39-16032, are approved as AMOCs for the corresponding provisions of paragraph (h) of this AD.

Related Information

(l) For more information about this AD, contact Berhane Alazar, Aerospace Engineer, Airframe Branch, ANM-120S, FAA, Seattle Aircraft Certification Office (ACO), 1601 Lind Avenue, SW., Renton, Washington 98057-3356; telephone (425) 917-6577; fax (425) 917-6590.

Material Incorporated by Reference

(m) You must use Boeing Alert Service Bulletin 767-54A0074, Revision 1, dated April 24, 2008, to do the actions required by this AD, unless the AD specifies otherwise. If you accomplish the optional terminating actions specified in this AD, you must use Boeing Alert Service Bulletin 767-54A0074, Revision 1, dated April 24, 2008; or Boeing Service Bulletin 767-54-0074, dated March 27, 1997; to perform those actions, unless the AD specifies otherwise.

(1) The Director of the Federal Register approved the incorporation by reference of Boeing Service Bulletin 767-54-0074, dated March 27, 1997, under 5 U.S.C. 552(a) and 1 CFR part 51.

(2) The Director of the Federal Register previously approved the incorporation by reference of Boeing Alert Service Bulletin 767-54A0074, Revision 1, dated April 24, 2008, on November 5, 2009 (74 FR 50692, October 1, 2009).

(3) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on October 6, 2010.
Ali Bahrami,
Manager, Transport Airplane Directorate, Aircraft Certification Service.

[FR Doc. 2010-26224 Filed 10-19-10; 8:45 am]

BILLING CODE 4910-13-P